DEPARTMENT OF HOUSING AND URBAN DEVELOPMENT

[Docket No. FR-7041-N-05]

60-Day Notice of Proposed Information Collection: Eviction Protection Grant Program

AGENCY: Office of the Assistant Secretary for Policy Development and Research, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: December 27, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Eviction Protection Grant Program.

OMB Approval Number: 2528-0331.

Type of Request: Revision of a currently approved collection.

Form Number: Application for Federal Assistance, Standard Form-424; Disclosure of Lobbying Activities, Standard Form-LLL; HUD Detailed Budget Worksheet, 424 CBW; HUD Applicant/Recipient Disclosure/Update Report, 2880; NOFO narrative; HUD Client Services and Outcomes Report, 52698; and grant activity report.

Description of the need for the information and proposed use: This information is collected in connection with HUD's Eviction Protection Grant Program and will be used by HUD to determine that the grant applicant meets the requirements of the Notice of Funding Opportunity (NOFO). Information collected is also used to assign points for awarding grant funds on a competitive and equitable basis. The information is collected via a narrative and the budget form. Information collected from grantees post-award will be used by HUD to meet its statutory program monitoring and demonstration obligations.

HUD is required to develop a competitive grant program to fund nonprofit or governmental entities to provide legal assistance (including assistance related to pretrial activities, trial activities, post-trial activities and alternative dispute resolution) at no cost to eligible low-income tenants at risk of or subject to eviction. In connection with the COVID-19 emergency, the CARES Act was enacted on March 28, 2020. It placed a moratorium on eviction in all federally-assisted housing and federally-backed mortgages through July 24, 2020. The expiration of that moratorium was followed by an Order from the Centers of Disease Control and Prevention (CDC) temporarily halting evictions for nonpayment of rent on September 4, 2020, which was subsequently extended until July 31, 2021, nationally and until October 3, 2021, in areas with substantial or high levels of community transmission of COVID-19.

As households continue to struggle with income loss and accumulating back rent, the threat of evictions has grown considerably. The Household Pulse Survey Phase 3.1 found that the week of June 23, 2021, over 7.4 million renters were behind on their rent payments and another 4.9 million were not confident they would be able to make next month's payment. With the expiration of the CDC's national moratorium looming, 3.6 million renters reported eviction was likely or somewhat likely in the next two months. Housing instability caused by formal and informal evictions has significant economic, physical, and mental consequences. Research has found eviction protection services, including services such as legal representation, court navigators, education and outreach, and assistance completing the legal forms to respond to an eviction notice, reduce evictions and increase housing stability for low-income renters. The Eviction Protection Grant Program will provide $20 million to support eviction protection services in areas with high rates of eviction or probable eviction to low-income tenants at risk of or subject to eviction. The Eviction Protection Grant Program NOFO, FR-6500-N-79, OMB Approval Number 2528-0331, was published on July 20, 2021.

This notice updates HUD's previously approved emergency review request to include HUD's proposed form for collecting information about client services and outcomes. Grantees will be expected to submit this information to HUD with its post-award quarterly reports. This review is needed to fulfill Congress' intent for the Eviction Protection grant program to expeditiously provide funds to meet the need for which Congress appropriated them and reduce the harm these tenants will face without access to eviction protection services. It is also needed to enable HUD to meet its statutory program monitoring and demonstration obligations for this new program and fulfill its statutory, Executive Order, and regulatory obligations to ensure the equitable disbursement of critical eviction protection services.

Respondents: Office of Policy Development and Research Grantee Recipients for the Eviction Protection Grant Program.

Total Burden Estimate: The table below reflects our estimate of the burden on the grantee recipients.

Respondent's Obligation: Voluntary.

Legal Authority: The data collection is conducted under Title 12, United States Code, Section. 1701z and Section 3507 of the Paperwork Reduction Act of 1995, 44, U.S.C., 35, as amended.

Information collection | Number of respondents | Frequency of response | Responses per year | Average burden hours per response | Annual burden hours | Hourly cost per response (hourly wage rate) | Total annual respondent cost
Pre award
NOFO application narrative | 100 | 1 | 100 | 40 | 4,000 | $52.36 | $209,440
Application for Federal Assistance, Standard Form-424 | 0 | 0 | 0 | 0 | 0 | 0.00 | 0.00
Disclosure of Lobbying Activities, Standard Form-LLL | 0 | 0 | 0 | 0 | 0 | 0.00 | 0.00
Detailed Budget Worksheet, 424 CBW | 100 | 1 | 100 | 3.12 | 312 | 52.36 | 16,336.32
Disclosure/Update Report (Form HUD-2880) | 100 | 1 | 100 | 2 | 200 | 52.36 | 10,472
Total Pre award | 100 | 1 | 100 | 45.12 | 4,512 | 52.36 | 236,248.32
Post award
Grant work plan | 20 | 1 | 20 | 2 | 40 | 52.36 | 2,094.40
Detailed Budget Worksheet, 424 CBW | 20 | 1 | 20 | 3.12 | 62.4 | 52.36 | 3,267.26
Client Services and Outcomes Report, 52698 | 20 | * 1,000 | 20,000 | 0.25 | 5,000 | 52.36 | 261,800.00
Grant activity reporting | 20 | 4 | 80 | 2 | 160 | 52.36 | 8,377.60
Total Post award | 20 | 5 | 120 | 7.37 | 5,262.4 | 52.36 | 275,539.26
Totals | 120 | 6 | 220 | 52.49 | 9,774.40 | 52.36 | 511,787.58
* Anticipated average number of annual responses per respondent (grantee), to be reported to HUD quarterly with grant activity report.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. chapter 35.

Todd M. Richardson,
General Deputy Assistant Secretary for Policy Development and Research.

[FR Doc. 2021-23401 Filed 10-26-21; 8:45 am]

BILLING CODE 4210-67-P